DEPARTMENT OF TRANSPORTATION

Federal Aviation Administration

14 CFR Part 39

[Docket No. FAA-2009-0430; Directorate Identifier 2008-NM-148-AD; Amendment 39-16540; AD 2010-26-01]

RIN 2120-AA64

Airworthiness Directives; The Boeing Company Model 777-200 Series Airplanes

AGENCY: Federal Aviation Administration (FAA), DOT.

ACTION: Final rule.

SUMMARY: We are adopting a new airworthiness directive (AD) for certain Model 777-200 series airplanes. This AD requires installing a new insulation blanket on the latch beam firewall of each thrust reverser (T/R) half. This AD results from an in-flight shutdown due to an engine fire indication; an under-cowl engine fire was extinguished after landing. The cause of the fire was uncontained failure of the starter in the engine core compartment; the fire progressed into the latch beam cavity and was fueled by oil from a damaged integrated drive generator oil line. We are issuing this AD to prevent a fire from entering the cowl or strut area, which could weaken T/R parts and result in reduced structural integrity of the T/R, possible separation of T/R parts during flight, and consequent damage to the airplane and injury to people or damage to property on the ground.

DATES: This AD is effective January 20, 2011.

The Director of the Federal Register approved the incorporation by reference of a certain publication listed in the AD as of January 20, 2011.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Margaret Langsted, Aerospace Engineer, Propulsion Branch, ANM-140S, FAA, Seattle Aircraft Certification Office, 1601 Lind Avenue SW., Renton, Washington 98057-3356; telephone (425) 917-6500; fax (425) 917-6590.

SUPPLEMENTARY INFORMATION:

Discussion

We issued a notice of proposed rulemaking (NPRM) to amend 14 CFR part 39 to include an airworthiness directive (AD) that would apply to certain Boeing Model 777-200 series airplanes. That NPRM was published in the Federal Register on May 7, 2009 (74 FR 21284). That NPRM proposed to require installing a new insulation blanket on the latch beam firewall of each thrust reverser (T/R) half.

Relevant Service Information

Since we issued the NPRM, we have reviewed Boeing Alert Service Bulletin 777-78A0066, Revision 2, dated April 8, 2010. Boeing Service Bulletin 777-78A0066, Revision 1, dated March 12, 2009, was referred to in the original NPRM as the appropriate source of service information for accomplishing the proposed actions. No more work is necessary for airplanes on which Revision 1 of this service bulletin was used for doing the actions. Boeing Alert Service Bulletin 777-78A0066, Revision 2, dated April 8, 2010, moves certain airplanes to Group 1, and contains minor editorial changes.

We have revised paragraphs (c) and (g) of this AD to refer to Revision 2 of Boeing Alert Service Bulletin 777-78A0066, Revision 2, dated April 8, 2010, and paragraph (h) to add credit for accomplishing the specified actions in accordance with Boeing Service Bulletin 777-78A0066, Revision 1, dated March 12, 2009.

Comments

We gave the public the opportunity to participate in developing this AD. We considered the comments received.

Request To Clarify Description of Unsafe Condition

Boeing asked that we clarify the description of the unsafe condition by removing the words “or strut” from the identified description. Boeing stated that the unsafe condition, as currently written, is not correct. Boeing did not provide the reason that the description is not correct.

We disagree that the description of the unsafe condition should be clarified by removing “or strut” from the description. A fire in the lower latch beam area that burns through an inadequate firewall may propagate into the strut. We have made no change to the AD in this regard.

Request To Clarify Applicability

Japan Airlines International (JALI) asked for clarification of the applicability specified in the NPRM. JALI stated that the applicability specifies Model 777-200 series airplanes identified in Boeing Service Bulletin 777-78A0066, Revision 1, dated March 12, 2009. JALI noted that the service bulletin specifies its effectivity as delivered condition, and the proposed rule is considered to be applicable to each T/R half that has been installed on airplanes with the applicable serial numbers. JALI added that the T/R half is a replaceable line unit and the installed airplane and/or engine position will be changed from the delivered condition in the future; the T/R half that is not necessary for doing the requirements in the NPRM may be installed on an airplane identified in the applicability.

JALI stated that, in light of these factors, it is not clear whether compliance with the specified actions has been met. JALI asked that we clarify the applicability either to note that the NPRM does not apply to airplanes on which a T/R is installed with a design change known as “Commonality T/R,” which is common to Model 777-300 series airplanes, or to change the airplane serial numbers to T/R part numbers or serial numbers.

We do not agree that the effectivity specified in Boeing Service Bulletin 777-78A0066, Revision 1, dated March 12, 2009, could apply to an airplane that has an incorrect T/R configuration because the T/R is a line replaceable unit and is not identified in the effectivity. The manufacturer has informed us that for airplanes not identified in Revision 1 or Revision 2 of this service bulletin, the specified T/R configuration is not an approved configuration. We have determined that it is not possible to install the T/R with the unsafe condition on airplanes that were manufactured after line number 413; therefore, the AD does not apply to those airplanes. We have made no change to the AD in this regard.

Request To Include Part Number and Compliance Status for T/R Halves

JALI asked that we include the applicable part numbers of each T/R half and add a procedure in the NPRM to reidentify the parts as the part numbers change. JALI added that this change to the NPRM would include indicating the service bulletin number or adding a suffix to the serial number on the ID plate for each T/R so operators can easily track the applicable part number and compliance status for each T/R half. JALI noted that there is nothing identified in the service bulletin, and the only way for operators to identify the applicable part number and compliance status of each T/R half is by reviewing the maintenance record. JALI added that this would be burdensome for operators.

We agree that the part numbers of each T/R half should be included in the service information and a procedure should be added to reidentify the parts as the part numbers change. Boeing Alert Service Bulletin 777-78A0066, Revision 2, dated April 8, 2010, includes the part marking provision. As stated previously, we have revised paragraph (c) of this AD (i.e., the AD applicability) to refer to Revision 2 of this service bulletin. Therefore, we have made no further change to the AD in this regard.

Explanation of Changes Made to This AD

We have revised this AD to identify the legal name of the manufacturer as published in the most recent type certificate data sheet for the affected airplane models.

Conclusion

We reviewed the relevant data, considered the comments received, and determined that air safety and the public interest require adopting the AD with the changes described previously. We also determined that these changes will not increase the economic burden on any operator or increase the scope of the AD.

Explanation of Change to Costs of Compliance

Since issuance of the original NPRM, we have increased the labor rate used in the Costs of Compliance from $80 per work-hour to $85 per work-hour. The Costs of Compliance information, below, reflects this increase in the specified hourly labor rate.

Costs of Compliance

We estimate that this AD affects 25 airplanes of U.S. registry. We also estimate that it will take about 7 work-hours per product to comply with this AD. The average labor rate is $85 per work-hour. Required parts will cost between $3,546 and $5,253 per product. Based on these figures, we estimate the cost of this AD to the U.S. operators to be between $103,525 and $146,200, or between $4,141 and $5,848 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-26-01 The Boeing Company: Amendment 39-16540. Docket No. FAA-2009-0430; Directorate Identifier 2008-NM-148-AD.

Effective Date

(a) This airworthiness directive (AD) is effective January 20, 2011.

Affected ADs

(b) None.

Applicability

(c) This AD applies to The Boeing Company Model 777-200 series airplanes, certificated in any category; as identified in Boeing Alert Service Bulletin 777-78A0066, Revision 2, dated April 8, 2010.

Unsafe Condition

(d) This AD results from an in-flight shutdown due to an engine fire indication; an under-cowl engine fire was extinguished after landing. The cause of the fire was uncontained failure of the starter in the engine core compartment; the fire progressed into the latch beam cavity and was fueled by oil from a damaged integrated drive generator oil line. We are issuing this AD to prevent a fire from entering the cowl or strut area, which could weaken thrust reverser (T/R) parts and result in reduced structural integrity of the T/R, possible separation of T/R parts during flight, and consequent damage to the airplane and injury to people or damage to property on the ground.

Subject

(e) Air Transport Association (ATA) of America Code 78: Exhaust.

Compliance

(f) Comply with this AD within the compliance times specified, unless already done.

Installation of Insulation Blanket

(g) Within 60 months or 4,500 flight cycles after the effective date of this AD, whichever is first: Install a new insulation blanket on the latch beam firewall of each T/R half by doing all the applicable actions specified in the Accomplishment Instructions of Boeing Alert Service Bulletin 777-78A0066, Revision 2, dated April 8, 2010.

Credit for Actions Accomplished in Accordance With Previous Service Information

(h) Actions done before the effective date of this AD in accordance with Boeing Alert Service Bulletin 777-78A0066, dated June 5, 2008; or Boeing Service Bulletin 777-78A0066, Revision 1, dated March 12, 2009; are acceptable for compliance with the corresponding requirements of paragraph (g) of this AD.

Alternative Methods of Compliance (AMOCs)

(i)(1) The Manager, Seattle Aircraft Certification Office (ACO), FAA, has the authority to approve AMOCs for this AD, if requested using the procedures found in 14 CFR 39.19. Send information to Attn: Margaret Langsted, Aerospace Engineer, Propulsion Branch, ANM-140S, FAA, Seattle ACO, 1601 Lind Avenue SW., Renton, Washington 98057-3356; telephone (425) 917-6500; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(j) You must use Boeing Alert Service Bulletin 777-78A0066, Revision 2, dated April 8, 2010, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on December 3, 2010.
Jeffrey E. Duven,
Acting Manager, Transport Airplane Directorate, Aircraft Certification Service.

[FR Doc. 2010-31384 Filed 12-15-10; 8:45 am]

BILLING CODE 4910-13-P